SMALL BUSINESS ADMINISTRATION

Reporting and Recordkeeping Requirements Under OMB Review

AGENCY: Small Business Administration.

ACTION: Notice of Reporting Requirements Submitted for OMB Review.

SUMMARY: Under the provisions of the Paperwork Reduction Act (44 U.S.C. Chapter 35), agencies are required to submit proposed reporting and recordkeeping requirements to OMB for review and approval, and to publish a notice in the Federal Register notifying the public that the agency has made such a submission.

DATES: Submit comments on or before December 14, 2011. If you intend to comment but cannot prepare comments promptly, please advise the OMB Reviewer and the Agency Clearance Officer before the deadline.

Copies: Request for clearance (OMB 83-1), supporting statement, and other documents submitted to OMB for review may be obtained from the Agency Clearance Officer.

ADDRESSES: Address all comments concerning this notice to: Agency Clearance Officer, Jacqueline White, Small Business Administration, 409 3rd Street SW., 5th Floor, Washington, DC 20416; and OMB Reviewer, Office of Information and Regulatory Affairs, Office of Management and Budget, New Executive Office Building, Washington, DC 20503.

FOR FURTHER INFORMATION CONTACT: Jacqueline White, Agency Clearance Officer, (202) 205-7044.

SUPPLEMENTARY INFORMATION: Title: “25-Model Corp.Resol.or GP Certif.33-Model Letter to Selling Agent. 34-Bank ID, 1065-Appl.Lic.Assure of Compliance.

Form No's: 23, 33, 34, 1065.

Frequency: On Occasion.

Description of Respondents: Application for SBA-guaranteed leverages.

Responses: 48.

Annual Burden: 42.

Title: “U.S. Small Business Advisory Committee Membership Information”.

Form No: 898.

Frequency: On Occasion.

Description of Respondents: To collect information for Candidates for Advisory Council.

Responses: 100.

Annual Burden: 100.

Title: “Financial Statement of Debtor”.

Form No: 770.

Frequency: On Occasion.

Description of Respondents: SBA Borrowers or guarantor's who request compromise.

Responses: 5,000.

Annual Burden: 2,500.

Title: “Lender's Transcript of Account”.

Form No: 1149.

Frequency: On Occasion.

Description of Respondents: SBA Borrowers to complete loan authorization.

Responses: 3,600.

Annual Burden: 3,600.

Title: “New Markets Venture Capital Program Application Funding and Reporting”.

Form No's: 2216, 2185, 2219, 2210, 468.1, 480

Frequency: On Occasion.

Description of Respondents: Programs Application and participants, SSBIC receiving grants under the NMVC program.

Responses: 1,151.

Annual Burden: 14,012.

Title: “Settlement Sheet”.

Form No: 1050.

Frequency: On Occasion.

Description of Respondents: Lenders requesting SBA to provide the Agency with breakdown of payments.

Responses: 19,800.

Annual Burden: 4,950.

Jacqueline White,
Chief, Administrative Information Branch.

[FR Doc. 2011-29209 Filed 11-10-11; 8:45 am]

BILLING CODE P